DEPARTMENT OF HOMELAND SECURITY

Customs and Border Protection

19 CFR Part 101

[DHS-2005-0057]

Establishment of New Port of Entry at Sacramento, CA; Realignment of the Port Limits of the Port of Entry at San Francisco, CA

AGENCY: Customs and Border Protection, DHS.

ACTION: Notice of proposed rulemaking.

SUMMARY: This rule proposes to amend the Department of Homeland Security regulations pertaining to the field organization of the Bureau of Customs and Border Protection by establishing a new port of entry at Sacramento, California, and terminating the user fee status of Sacramento International Airport. In order to accommodate this new port of entry, this rule proposes to realign the port boundaries of the port of entry at San Francisco, California since these boundaries currently encompass an area that is to be included within the new port of Sacramento. This change is part of the Bureau of Customs and Border Protection's continuing program to utilize more efficiently its personnel, facilities, and resources to provide better service to carriers, importers, and the general public.

DATES: Comments must be received on or before November 1, 2005.

ADDRESSES: Comments, identified by docket number DHS-2005-0057, may be submitted by one of the following methods:

EPA Federal Partner EDOCKET Web Site: http://www.epa.gov/feddocket. Follow instructions for submitting comments on the Web site.

Federal eRulemaking Portal: http://www.regulations.gov. Follow the instructions for submitting comments.

Mail: Comments by mail are to be addressed to the Bureau of Customs and Border Protection, Office of Regulations and Rulings, Regulations Branch, 1300 Pennsylvania Avenue, NW. (Mint Annex), Washington, DC 20229. Submitted comments by mail may be inspected at the Bureau of Customs and Border Protection, 799 9th Street, NW., Washington, DC. To inspect comments, please call (202) 572-8768 to arrange for an appointment.

Instructions: All submissions received must include the agency name and docket number for this rulemaking. All comments received will be posted without change to http://www.epa.gov/feddocket, including any personal information provided.

FOR FURTHER INFORMATION CONTACT: Dennis Dore, Office of Field Operations, 202-344-2776.

SUPPLEMENTARY INFORMATION:

Background

As part of its continuing efforts to provide better service to carriers, importers, and the general public, the Department of Homeland Security (DHS), Bureau of Customs and Border Protection (CBP), is proposing to establish a new port of entry at Sacramento, California.

The new port of entry would include all the territory within the following areas: (i) The corporate limits of Sacramento, including the adjacent territory comprised of McClellan Airport in Sacramento County; (ii) all territory on the San Joaquin River in Contra Costa and San Joaquin Counties, to and including Stockton; (iii) from Sacramento, southwest along U.S. Interstate 80, east along Airbase Parkway, to and including the territory comprising Travis Air Force Base; (iv) all points on the Sacramento River in Solano, Yolo and Sacramento Counties, from the junction of the Sacramento River with the San Joaquin River in Sacramento County, to and including Sacramento, California; and (v) all points on the Sacramento River Deep Water Ship Channel in Solano, Yolo and Sacramento Counties, (a) from and including, the junction of Cache Slough with the Sacramento River, to and including Sacramento; and (b) from Sacramento northwest along Interstate 5 to Airport Boulevard, north along Airport Boulevard, to and including the territory comprising the Sacramento International Airport in Sacramento County. All of the territory included in the new port of Sacramento is located within the State of California.

Sacramento International Airport currently is a user fee airport. User fee airports do not qualify for designation by CBP as international airports (which are a specific type of CBP port of entry) based on the volume of their business, but are approved by the Commissioner of CBP to receive the services of CBP officers for the processing of aircraft entering the United States and their passengers and cargo. Unlike the situation at an international airport, the availability of customs services at a user fee airport is not paid for out of appropriations from the general treasury of the United States. Instead, customs services are provided on a fully reimbursable basis to be paid for by the airport on behalf of the recipients of the services; the airport pays a fee for customs services and then seeks reimbursement from the actual users of those services. This proposal, if adopted, would terminate the user fee status of Sacramento International Airport and therefore also terminate the system of reimbursable fees for the Sacramento International Airport. Sacramento International Airport, however, would become subject to the passenger-processing fee provided for under 19 U.S.C. 58c(a)(5)(B).

The current port limits of the port of entry at San Francisco, California (San Francisco-Oakland), which are described in Treasury Decision (T.D.) 82-9 published at 47 FR 1286 (January 12, 1982), include the proposed port of Sacramento. Accordingly, if Sacramento is established as a port of entry with the geographical limits described in this document, the geographical limits of the port of entry at San Francisco-Oakland would be modified. The geographical limits of the port of San Francisco-Oakland would include all the territory within the corporate limits of San Francisco and Oakland; all points on the San Francisco Bay, San Pablo Bay, Carquinez Strait and Suisan Bay.

Port of Entry Criteria

The criteria considered by CBP in determining whether to establish a port of entry are found in T.D. 82-37 published at 47 FR 10137 (March 9, 1982), subsequently revised and amended by T.D. 86-14 published at 51 FR 4559 (February 5, 1986) and T.D. 87-65 published at 52 FR 16328 (May 4, 1987). Under these criteria, CBP will evaluate whether there is a sufficient volume of import business (actual or potential) to justify the expense of maintaining a new office or expanding service at an existing location.

Specifically, CBP will consider whether the proposed port of entry location can:

(1) Demonstrate that the benefits to be derived justify the Federal Government expense involved;

(2) Except in the case of land border ports, be serviced by at least two major modes of transportation (rail, air, water, or highway); and

(3) Except in the case of land border ports, have a minimum population of 300,000 within the immediate service area (approximately a 70-mile radius).

In addition, one of the following five actual or potential workload criteria (minimum number of transactions per year), or an appropriate combination thereof, must be met in the area to be serviced by the proposed port of entry:

(1) 15,000 international air passengers;

(2) 2,500 formal consumption entries (each valued over $2,000 and no more than half of the 2,500 entries being attributed to one private party), with the applicant location committing to optimal use of electronic data input means to permit integration with any CBP system for electronic processing of entries;

(3) For land border ports, 150,000 vehicles;

(4) 2,000 scheduled international aircraft arrivals (passengers and/or crew); or

(5) 350 cargo vessel arrivals.

Finally, facilities at the proposed port of entry must include, where appropriate, wharfage and anchorage adequate for oceangoing vessels, cargo and passenger facilities, warehouse space for the secure storage of imported cargo pending final CBP inspection and release, and administrative office space, inspection areas, storage areas, and other space as necessary for regular CBP operations.

Sacramento's Workload Statistics

This proposed rule to establish the Sacramento, California area as a port of entry is based on CBP's analysis of the following information:

1. Sacramento, California and the Sacramento International Airport are serviced by four modes of transportation:

(a) rail (Amtrak);

(b) air (Sacramento International Airport, McClellan Airport and Travis Air Force Base);

(c) highway (Interstate 5 and Interstate 80); and

(d) water (Sacramento Seaport on the Sacramento River, Stockton Seaport).

2. The area within the immediate service area (approximately a 70-mile radius of Sacramento International Airport) currently has a population exceeding 2,000,000 persons.

3. Regarding the actual or potential workload criteria, during calendar year 2003, 25,560 international air passengers deplaned at Sacramento International Airport via Mexicana Airlines. This number of international air passengers exceeds the criteria requirement of 15,000 international passengers within one year by 10,560. From January 1, 2004 through October 30, 2004, 20,352 international air passengers deplaned at Sacramento International Airport, also via Mexicana Airlines. New international service for Mexicana Airlines began in December 2004, adding three additional cities in Mexico for service to Sacramento International Airport, resulting in a projected total of 55,000 deplaned international passengers at Sacramento International Airport for calendar year 2005. Additionally, the Sacramento Seaport services approximately 800 vessels per year and averages 1,000,000 tons of cargo.

CBP facilities are already in place at the proposed port of Sacramento and will continue to be provided at no cost to the Federal Government. The Sacramento County Airport System has spent $3,200,000 for the reconstruction of the International Arrivals Building at the Sacramento airport. A large technology sector is located in the Sacramento area, including seven of the ten largest manufacturers in the region involved in the research and development of advanced technology items. The Metro Air Park, adjacent to the Sacramento International Airport, has been zoned for 21 million square feet of warehousing, office, retail and high technology space, in anticipation of the formation of a port of entry at Sacramento. CBP believes that the establishment of a new port in the local area will provide significant benefits to the Sacramento-area community by providing enhanced business competitiveness for existing enterprises and enabling the retention and expansion of the number of jobs in the area.

This rule also proposes the realignment of the port of entry at San Francisco-Oakland to allow for the new port of Sacramento. The port of entry at San Francisco-Oakland will continue to satisfy the criteria for a port of entry even after the proposed realignment. San Francisco International Airport alone, processed 3,685,519 international passengers and crew during 2004. The San Francisco area includes a population of well over 300,000 and is serviced by four major modes of transportation (air, rail, water and highway).

Proposed Amendments to Regulations

If the proposed port of entry designation is adopted, the list of CBP ports of entry at 19 CFR 101.3(b)(1) will be amended to add Sacramento as a port of entry in California and to reflect the new boundaries of the San Francisco-Oakland port of entry.

Comments

Before adopting this proposal as a final rule, consideration will be given to any written comments timely submitted to CBP, including comments on the clarity of this proposed rule and how it may be made easier to understand. Comments submitted will be available for public inspection in accordance with the Freedom of Information Act (5 U.S.C. 552) and 19 CFR 103.11(b), on regular business days between the hours of 9 a.m. and 4:30 p.m. at the Regulations Branch, Office of Regulations and Rulings, Customs and Border Protection, 799 9th Street, NW., 5th Floor, Washington, DC. Arrangements to inspect submitted comments should be made in advance by calling Mr. Joseph Clark at (202) 572-8768.

Authority

This change is proposed under the authority of 5 U.S.C. 301 and 19 U.S.C. 2, 66, and 1624.

Executive Order 12866 and the Regulatory Flexibility Act

With DHS approval, CBP establishes, expands and consolidates CBP ports of entry throughout the United States to accommodate the volume of CBP-related activity in various parts of the country. The Office of Management and Budget has determined that this regulatory proposal is not a significant regulatory action as defined under Executive Order 12866. This proposed rule also will not have significant economic impact on a substantial number of small entities. Accordingly, CBP certifies that this document is not subject to the additional requirements of the provisions of the Regulatory Flexibility Act (5 U.S.C. 601 et seq.).

Signing Authority

The signing authority for this document falls under 19 CFR 0.2(a) because the establishment of a new port of entry and the termination of the user-fee status of an airport are not within the bounds of those regulations for which the Secretary of the Treasury has retained sole authority. Accordingly, the notice of proposed rulemaking may be signed by the Secretary of Homeland Security (or his or her delegate).

Dated: August 26, 2005.
Michael Chertoff,
Secretary.

[FR Doc. 05-17536 Filed 9-1-05; 8:45 am]

BILLING CODE 4820-02-P